DEPARTMENT OF HOMELAND SECURITY

Coast Guard

[Docket Number USCG-2020-0093]

Port Access Route Study: Seacoast of North Carolina Including Offshore Approaches to the Cape Fear River and Beaufort Inlet, North Carolina

AGENCY: Coast Guard, DHS.

ACTION: Notice of availability of draft report; request for comments.

SUMMARY: On March 18, 2020, the Coast Guard published a notice of study and request for comments announcing a Port Access Route Study (PARS) for the Seacoast of North Carolina Including Offshore Approaches to the Cape Fear River and Beaufort Inlet, North Carolina. This notice announces the availability of a draft report for public review and comment. We seek your comments on the content, proposed routing measures, and development of the report. The recommendations of the study may lead to future rulemakings or appropriate international agreements.

DATES: Your comments and related material must reach the Coast Guard on or before April 25, 2022.

ADDRESSES: You may submit comments identified by docket number USCG-2020-0093 using the Federal portal at https://www.regulations.gov. See the “Public Participation and Request for Comments” portion of the SUPPLEMENTARY INFORMATION section for further instructions on submitting comments.

FOR FURTHER INFORMATION CONTACT: If you have questions about this notice or study, call or email Mr. Matthew Creelman, Fifth Coast Guard District (dpw), U.S. Coast Guard; telephone (757) 398-6225, email Matthew.K.Creelman2@uscg.mil.

SUPPLEMENTARY INFORMATION:

I. Table of Abbreviations

AIS Automated Information System

DHS Department of Homeland Security

FR Federal Register

PARS Port Access Route Study

ACPARS Atlantic Coast Ports Access Route Study

U.S.C. United States Code

II. Background and Purpose

The Ports and Waterways Safety Act (46 U.S.C. 70003(c)) requires the Coast Guard to conduct a PARS, i.e., a study of potential traffic density and the need for safe access routes for vessels. Through the study process, the Coast Guard coordinates with Federal, State, local, tribal and foreign state agencies (as appropriate) to consider the views of maritime community representatives, environmental groups, and other interested stakeholders. The primary purpose of this coordination is, to the extent practicable, to reconcile the need for safe access routes with other reasonable waterway uses such as construction and operation of renewable energy facilities and other uses of the Atlantic Ocean in the study area.

In 2019, the Coast Guard announced a supplemental study of routes used by all vessels to access ports on the Atlantic Coast of the United States (84 FR 9541, March 15, 2019). This posting announced PARS for specific port approaches and international transit areas along the Atlantic Coast. The purpose of the supplemental studies is to align the Atlantic Coast Port Access Route Study (ACPARS) (81 FR 13307, March 14, 2016) with port approaches. The ACPARS analyzed the Atlantic Coast waters seaward of existing port approaches within the U.S. Exclusive Economic Zone and was finalized in 2017 (82 FR 16510, April 5, 2017).

The purpose of this notice is to announce the availability of the draft PARS examining the seacoast of North Carolina and the offshore approaches to the Cape Fear River and Beaufort Inlet, North Carolina. We encourage you to participate in the study process by submitting comments in response to this notice. This PARS used Automated Information System (AIS) data and information from stakeholders to identify and verify customary navigation routes as well as potential conflicts involving alternative activities, such as wind energy generation and offshore mineral exploitation and exploration, off the seacoast of North Carolina and in the offshore approaches to the Cape Fear River and Beaufort Inlet, North Carolina.

The study area extends approximately 200 nautical miles seaward of Cape Fear including the offshore area of North and South Carolina used by commercial and public vessels transiting to and from these ports. An illustration showing the study area is available in the docket where indicated under ADDRESSES. Additionally, the study area is available for viewing on the Mid-Atlantic Ocean Data Portal at http://portal.midatlanticocean.org/visualize/. See the “Maritime” portion of the Data Layers section.

On March 18, 2020, the Coast Guard published a Notice of Study; request for comments entitled “Port Access Route Study: Seacoast of North Carolina Including Offshore Approaches to the Cape Fear River and Beaufort Inlet, North Carolina” in the Federal Register (85 FR 15487). The initial comment period closed on May 18, 2020.

III. Information Requested

PARS are the means by which the Coast Guard determines the need to establish traffic routing measures or shipping safety fairways to reduce the risk of collision, allision, and grounding, and their impact on the environment; increase the efficiency and predictability of vessel traffic; and preserve the paramount right of navigation while continuing to allow for other reasonable waterway uses. The study analyzes current routing measures around the approaches to the Cape Fear River and Beaufort Inlet, North Carolina, and proposes an adequate way to manage forecasted maritime traffic growth and to promote navigation safety. The study also reviewed coastal port access from the seacoasts of North and South Carolina within the study area and the co-dependent use of the waters in support of future development.

The Coast Guard received two discrete comments in response to our Federal Register notice and other outreach efforts. We received one additional comment, which was a duplicate of a previously submitted comment. All comments and supporting documents are available in a public docket and can be viewed at http://www.regulations.gov. To do so, go to https://www.regulations.gov, type USCG-2020-0093 in the “SEARCH” box and click “SEARCH.” Next, look for this document in the Search Results column, and click on it.

As a result of the data analysis within this study, and considering the comments received, the Coast Guard proposes four additional measures for consideration by the public: One precautionary area and three shipping safety fairways. We seek your input on these proposals and welcome comment on any impact to vessel transit time, commercial fishing activity, recreational activity, and/or navigation safety. All comments received will be reviewed and considered before a final version of the PARS is announced in the Federal Register. This notice is published under the authority of 46 U.S.C. 70004 and 5 U.S.C. 552(a).

IV. Public Participation and Request for Comments

We encourage you to submit comments to this notice of availability through the Federal portal at https://www.regulations.gov. To do so, go to https://www.regulations.gov, type USCG-2020-0093 in the “SEARCH” box and click “SEARCH.” Next, look for this document in the Search Results column, and click on it. Then click on the Comment option. In your submission, please include the docket number for this notice of availability and provide a reason for each suggestion or recommendation. If your material cannot be submitted using https://www.regulations.gov, contact the person in the FOR FURTHER INFORMATION CONTACT section of this document for alternate instructions.

To view documents mentioned in this notice of inquiry as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive.

We accept anonymous comments. Comments we post to https://www.regulations.gov will include any personal information you have provided. For more about privacy and submissions in response to this document, see DHS's eRulemaking System of Records notice (85 FR 14226, March 11, 2020).

This document is issued under authority of 5 U.S.C. 552(a).

Dated: March 8, 2022.
Richard E. Batson,
Captain, U.S. Coast Guard, Acting Commander, Fifth Coast Guard District.

[FR Doc. 2022-06235 Filed 3-23-22; 8:45 am]

BILLING CODE 9110-04-P